DEPARTMENT OF AGRICULTURE

Foreign Agricultural Service

Request for Public Comments on Administration of the Specialty Sugar Allocation of the Refined Sugar Tariff-Rate Quota

AGENCY: Foreign Agricultural Service, USDA.

ACTION: Request for public comments.

SUMMARY: This notice requests public comments on the administration of the allocation of the speciality sugar tariff-rate quota (TRQ), which is an administrative breakout of the refined sugar TRQ provided for in Additional U.S. Note 5 (a)(i) of Chapter 17 of the Harmonized Tariff Schedule of the United States (HTS).

DATES: Comments should be received on or before July 31, 2001 to be assured of consideration.

ADDRESSES: Comments should be mailed or delivered to the Director, Import Policies and Programs Division, Foreign Agricultural Service, U.S. Department of Agriculture, 1400 Independence Avenue, SW., AgStop 1021, Washington DC 20250-1021, or e-mailed to Blabey@fas.usda.gov. Comments received may be inspected between 10:00 a.m. and 4:00 p.m. at room 5531-S, 1400 Independence Avenue, SW, Washington, DC 20250.

FOR FURTHER INFORMATION CONTACT: Richard Blabey at the address above, or telephone at (202) 720-2916, or e-mail at Blabey@fas.usda.gov. Persons with disabilities who require this request for comment in an alternative means of communication (Braille, large print, audiotape, etc.) should contact the USDA Target Center at (202) 720-2600 (voice and TDD).

SUPPLEMENTARY INFORMATION: USDA is preparing to establish the FY 2002 speciality sugar allocation under which imports may enter under subheadings 1701.12.10, 1701.91.10, 1701.99.10, 1702.90.10, 2106.90.44 of the HTS. Imports must be accompanied by a speciality sugar certificate issued by the USDA Certifying Authority to be eligible to enter under his TRQ allocation.

USDA is proposing to administer the speciality sugar TRQ in two tranches. The first tranche would permit imports not exceeding 1,656 metric tons raw value to enter under this TRQ beginning in October 2001. All speciality sugars identified in 15 CFR 2011, Subpart B would be eligible for entry. When combined with other refined sugars, syrups, and molasses entered under the above HTS subheadings, this tranche would permit sufficient imports of specialty sugar to satisfy the requirement of Additional U.S. Note 5 of Chapter 17 of the HTS that the Secretary establish a TRQ of not less than 22,000 metric tons raw value annually for refined sugar.

A second tranche would permit entry of speciality sugars not currently commercially produced in the United States or reasonably available from domestic sources. For FY 2002, USDA proposes to establish the quantity permitted entry under the second tranche at a level sufficient to assure that supplies of various types of specialty sugars meet domestic demand at reasonable prices. USDA would make known the size of the second tranche in its press release announcing the establishment of the FY 2002 refined sugar TRQ. The second tranche would be adjusted annually thereafter to reflect changing market conditions.

USDA also proposes that beginning in FY 2002 all imports of specialty sugar entered under the TRQ must be entered in bags containing not more than 50 kilos of sugar stowed in containers. This is the traditional method of importing specialty sugars and is intended to facilitate enforcement of the Regulation for specialty sugar.

USDA is soliciting comments on the above proposals for administering the specialty sugar TRQ and, in particular, solicits comments regarding appropriate dates for announcing the refined sugar TRQ and for opening of the second specialty sugar tranche.

Signed at Washington, DC, on June 22, 2001.
Mattie R. Sharpless,
Acting Administrator, Foreign Agricultural Service.

[FR Doc. 01-17649 Filed 7-13-01; 8:45 am]

BILLING CODE 3410-10-M